DEPARTMENT OF DEFENSE

Department of the Air Force

[Docket ID: USAF-2013-0038]

Privacy Act of 1974; System of Records

AGENCY: Department of the Air Force, DoD.

ACTION: Notice to alter a System of Records.

SUMMARY: The Department of the Air Force proposes to alter a system of records notice, F024 AF IL C, entitled “Motor Vehicle Operators' Records”, in its existing inventory of records systems subject to the Privacy Act of 1974, as amended. This system will be used to create and maintain records of motor vehicle operators and licenses. In addition, records are created and maintained on Air Force personnel required to drive government owned or leased vehicles that exceed 10,000 pounds gross vehicle weight and are used for emergency response and/or are equipped with four-wheel-drive. The data is used to create a printed vehicle operator identification card.

DATES: This proposed action will be effective on January 10, 2014 unless comments are received which result in a contrary determination. Comments will be accepted on or before January 9, 2014.

ADDRESSES: You may submit comments, identified by docket number and title, by any of the following methods:

• Federal Rulemaking Portal: http://www.regulations.gov. Follow the instructions for submitting comments.

• Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force, Air Force Privacy Office, Office of Warfighting Integration and Chief Information Officer, ATTN: SAF/CIO A6, 1800 Air Force Pentagon, Washington, DC 20330-1800, or by phone at (571) 256-2515.

SUPPLEMENTARY INFORMATION: The Department of the Air Force's notices for systems of records subject to the Privacy Act of 1974 (5 U.S.C. 552a(r)), as amended, have been published in the Federal Register and are available from the address in FOR FURTHER INFORMATION CONTACT or from the Defense Privacy and Civil Liberties Office Web site at http://dpclo.defense.gov/privacy/SORNs/component/airforce/index.html.

The proposed systems reports, as required by 5 U.S.C. 552a(r) of the Privacy Act of 1974, as amended, were submitted on September 23, 2013 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: December 5, 2013.
Aaron Siegel,
Alternate OSD Federal Register Liaison Officer, Department of Defense.

F024 AF IL C

System name:

Motor Vehicle Operator's Records (December 30, 2008, 73 FR 79849).

Changes:

* * * * *

Categories of individuals covered by the system:

Delete entry and replace with “Air Force Active duty, Reserve, National Guard, civilians and nonappropriated funds employees who are required to operate a government motor vehicle on or off post.”

Categories of records in the system:

Delete entry and replace with “Name, rank, date of birth, gender, eye color, hair color, height, weight, state issued driver's license number and any restrictions listed on the driver's license.”

Authority for maintenance of the system:

Delete entry and replace with “10 U.S.C. 8013, Secretary of the Air Force; DoD 4500.36-R, Management, Acquisition, and Use of Motor Vehicles; Air Force Policy Directive 24-3, Management, Operations and Use of Transportation Vehicles; and Air Force Instruction 24-301, Transportation, Vehicle Operations.”

Purpose(s):

Delete entry and replace with “To create and maintain records of motor vehicle operators and licenses. In addition, records are created and maintained on Air Force personnel required to drive government owned or leased vehicles exceeding 10,000 pounds gross vehicle weight and are used for emergency response and/or are equipped with four-wheel-drive. The data is used to create a printed vehicle operator identification card.”

* * * * *

Storage:

Delete entry and replace with “Electronic storage media.”

Retrievability:

Delete entry and replace with “Individual's name and/or driver's license number.”

Safeguards:

Delete entry and replace with “Driver's records are maintained only in electronic form. Access to records is limited to members responsible for adding new driver's information to the database or updating existing records in the performance of their official duties. The On-line Vehicle Interactive Management System (OLVIMS) Licensing Module is only accessible through the Air Force Portal, Global Combat Support System (GCSS-AF). This system's software uses Primary Key Infrastructure (PKI)/Common Access Card (CAC) authentication to prevent unauthorized access.”

Retention and disposal:

Delete entry and replace with “Retained in licensing database until discharge or separation of the individual. Upon request, a printed copy will be provided to the individual when discharged or separated.”

System manager(s) and address:

Delete entry and replace with “AFLCMC/HIAR (OLVIMS Program Office) 200 E Moore Street, Suite 1016, Maxwell AFB, Gunter Annex, AL 36114-3004.”

Notification procedure:

Delete entry and replace with “Individuals seeking to determine whether information about themselves is contained in this system of records should address written inquiries to AF A4LE, Pentagon, Washington, DC 20330-1040.

For verification purposes, individual should provide their full name and any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking access to information about themselves contained in this system of records should address written inquiries to AF A4LE, Pentagon, Washington, DC 20330-1040.

For verification purposes, individual should provide their full name and any details which may assist in locating records, and their signature.

In addition, the requester must provide a notarized statement or an unsworn declaration made in accordance with 28 U.S.C., 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

* * * * *

Record source categories:

Delete entry and replace with “Information obtained from the individual, medical institutions, police and investigating officers, motor vehicles bureaus, state or local governments, witnesses, and Department of Transportation.”

* * * * *

[FR Doc. 2013-29407 Filed 12-9-13; 8:45 am]

BILLING CODE 5001-06-P